DEPARTMENT OF ENERGY

Federal Energy Regulatory Commission

Combined Notice of Filings #1

Take notice that the Commission received the following electric rate filings:

Docket Numbers: ER12-2560-000.

Applicants: Monongahela Power Company.

Description: Refile to be effective 9/1/2012.

Filed Date: 8/31/12.

Accession Number: 20120831-5196.

Comments Due: 5 p.m. ET 9/21/12.

Docket Numbers: ER12-2561-000.

Applicants: Duquesne Light Company.

Description: Category Seller Change to be effective 8/31/2012.

Filed Date: 8/31/12.

Accession Number: 20120831-5204.

Comments Due: 5 p.m. ET 9/21/12.

Docket Numbers: ER12-2562-000.

Applicants: Southwest Power Pool, Inc.

Description: 2462 Twin Eagle Resource Meter Agent Agreement to be effective 8/1/2012.

Filed Date: 8/31/12.

Accession Number: 20120831-5218.

Comments Due: 5 p.m. ET 9/21/12.

Docket Numbers: ER12-2563-000.

Applicants: Tampa Electric Company.

Description: Second Revised Rate Schedule No. 63 Cancelling First Amendment to be effective 8/31/2012.

Filed Date: 8/31/12.

Accession Number: 20120831-5228.

Comments Due: 5 p.m. ET 9/21/12.

Docket Numbers: ER12-2564-000.

Applicants: Duquesne Conemaugh, LLC.

Description: Category Seller Change to be effective 8/31/2012.

Filed Date: 8/31/12.

Accession Number: 20120831-5260.

Comments Due: 5 p.m. ET 9/21/12.

Docket Numbers: ER12-2565-000.

Applicants: Duquesne Keystone, LLC.

Description: Category Seller Change to be effective 8/31/2012.

Filed Date: 8/31/12.

Accession Number: 20120831-5263.

Comments Due: 5 p.m. ET 9/21/12.

Docket Numbers: ER12-2566-000.

Applicants: Duquesne Power, LLC.

Description: Category Seller Change to be effective 8/31/2012.

Filed Date: 8/31/12.

Accession Number: 20120831-5265.

Comments Due: 5 p.m. ET 9/21/12.

Docket Numbers: ER12-2567-000.

Applicants: New England Power Pool Participants Committee.

Description: Sep 2012 Membership Filing to be effective 8/1/2012.

Filed Date: 8/31/12.

Accession Number: 20120831-5280.

Comments Due: 5 p.m. ET 9/21/12.

Docket Numbers: ER12-2568-000.

Applicants: New York Independent System Operator, Inc.

Description: NYISO Tariff Revisions Regarding Black Start and System Restoration Service to be effective 11/1/2012.

Filed Date: 8/31/12.

Accession Number: 20120831-5289.

Comments Due: 5 p.m. ET 9/21/12.

Docket Numbers: ER12-2569-000.

Applicants: Tampa Electric Company.

Description: Third Revised Rate Schedule No. 63 With Second Amendment to be effective 9/1/2012.

Filed Date: 8/31/12.

Accession Number: 20120831-5296.

Comments Due: 5 p.m. ET 9/21/12.

Docket Numbers: ER12-2570-000.

Applicants: Panther Creek Power Operating, LLC.

Description: Market-Based Rate Tariff to be effective 10/17/2012.

Filed Date: 8/31/12.

Accession Number: 20120831-5310.

Comments Due: 5 p.m. ET 9/21/12.

Docket Numbers: ER12-2571-000.

Applicants: Fountain Valley Power, L.L.C.

Description: Market-Based Rate Service Agreement to be effective 9/1/2012.

Filed Date: 8/31/12.

Accession Number: 20120831-5312.

Comments Due: 5 p.m. ET 9/21/12.

Docket Numbers: ER12-2572-000.

Applicants: Midwest Independent Transmission System Operator, Inc.

Description: Clean-Up Filing to be effective 7/28/2010.

Filed Date: 8/31/12.

Accession Number: 20120831-5313.

Comments Due: 5 p.m. ET 9/21/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 4, 2012.
Nathaniel J. Davis, Sr.,
Deputy Secretary.

[FR Doc. 2012-22679 Filed 9-13-12; 8:45 am]

BILLING CODE 6717-01-P